DEPARTMENT OF STATE

[Public Notice: 10361]

Fine Arts Committee Notice of Meeting

The Fine Arts Committee of the Department of State will meet on April 20, 2018 at 1:00 p.m. in the Henry Clay Room of the Harry S. Truman Building, 2201 C Street NW, Washington, DC. The meeting will last until approximately 4:00 p.m. and is open to the public.

The agenda for the committee meeting will include a summary of the work of the Fine Arts Office since its last meeting on April 20, 2018 and the announcement of gifts and loans of furnishings as well as financial contributions from January 1, 2017 through December 31, 2017.

Public access to the Department of State is strictly controlled and space is limited. Members of the public wishing to take part in the meeting should telephone the Fine Arts Office at (202) 647-1990 or send an email to SellmanCT@state.gov by April 1, providing their name, date of birth, citizenship; and government issued ID number [i.e., U.S. government ID (agency), U.S. military ID (branch), passport (country) or driver's license (state)] in order to gain admittance. All attendees must use the “C” Street entrance located at 2201 C Street Northwest, Washington, DC 20520. One of the following valid IDs will be required for admittance: any U.S. driver's license with photo, a passport, or a U.S. government agency ID. Attendees should expect to remain in the meeting for the entire session. The public may take part in the discussion as long as time permits and at the discretion of the chairman.

Personal data is requested pursuant to Public Law 99-399 (Omnibus Diplomatic Security and Antiterrorism Act of 1986), as amended; Public Law 107-56 (USA PATRIOT Act); and Executive Order 13356. The purpose of the collection is to validate the identity of individuals who enter Department facilities. The data will be entered into the Visitor Access Control System (VACS-D) database. Please see the Security Records System of Records Notice (State-36) at https://foia.state.gov/_docs/SORN/State-36.pdf for additional information.

Marcee Craighill,
Fine Arts Committee, Department of State.

[FR Doc. 2018-06342 Filed 3-28-18; 8:45 am]

BILLING CODE 4710-24-P